DEPARTMENT OF HEALTH AND HUMAN SERVICES

Administration for Community Living

[OMB #0985-0042]

Agency Information Collection Activities; Proposed Collection; Public Comment Request; State Grants for Assistive Technology Program Annual Progress Report

AGENCY: Administration for Community Living, HHS.

ACTION: Notice

SUMMARY: The Administration for Community Living (ACL) is announcing an opportunity for the public to comment on the proposed collection of information listed above. Under the Paperwork Reduction Act of 1995 (the PRA), Federal agencies are required to publish a notice in the Federal Register concerning each proposed collection of information, including each proposed revision of an existing collection of information, and to allow 60 days for public comment in response to the notice. This revision (ICR Rev) solicits comments on the information collection requirements related to the State Grants for Assistive Technology Program Annual Progress Report (AT APR).

DATES: Comments on the collection of information must be submitted electronically by 11:59 p.m. (EST) or postmarked by November 27, 2020.

ADDRESSES: Submit electronic comments on the collection of information to: Robert Groenendaal, Robert.Groenendaal@acl.hhs.gov. Submit written comments on the collection of information to the Administration for Community Living 330 C Street SW, Washington, DC 20201. Attention: Robert Groenendaal.

FOR FURTHER INFORMATION CONTACT: Robert Groenendaal, Assistive Technology Program Manager, Center for Innovation and Partnership in the Office of Interagency Innovation Administration for Community Living 330 C Street SW, Washington, DC 20201. Phone: 202-795-7356. Email: Robert.Groenendaal@acl.hhs.gov.

SUPPLEMENTARY INFORMATION: Under the PRA, Federal agencies must obtain approval from the Office of Management and Budget (OMB) for each collection of information they conduct or sponsor. “Collection of information” is defined as and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The information collected through this data collection instrument is necessary for ACL and states to comply with Sections 4 and 7 of the Assistive Technology Act of 1998, as amended (AT Act). ACL is requesting a revision of the annual data collection instrument (OMB No. 0985-0042). Approval of 0985-0042 expires November 30, 2020.

Section 4 of the AT Act authorizes grants to public agencies in the 50 states and the District of Columbia, Puerto Rico, the Virgin Islands, Guam, American Samoa, and the Commonwealth of the Northern Marianas (states and outlying areas). With these funds, the 56 states and outlying areas operate “Statewide AT Programs” that conduct activities to increase access to and acquisition of assistive technology (AT) for individuals with disabilities and older Americans.

Divided into two comprehensive activity categories: “State-level Activities” and “State Leadership Activities.” According to Section 4 of the AT Act, as a condition of receiving a grant to support their Statewide AT Programs, the 56 states and outlying areas must provide to ACL: (1) Applications and (2) annual progress reports on their activities.

Applications: The application required of states and outlying areas is a three-year State Plan for Assistive Technology (State Plan for AT or State Plan) (OMB No. 0985-0048). The content of the State Plan for AT is based on the requirements in Section 4(d) of the AT Act. As a part of this State Plan, Section 4(d)(3) of the AT Act requires that states and outlying areas set measurable goals for addressing the assistive technology needs of individuals with disabilities in education, employment, community living and information technology/telecommunications.

Every state and outlying area is required to include a minimum of seven prescribed measurable goals in its State Plan. These seven goals apply to all states and outlying areas in order to aggregate information on performance of the program at the national level. National aggregation of data related to these goals is necessary for the Government Performance and Results Modernization Act of 2010 (GPRAMA) (Pub. L. 111-352), as well as an Annual Report to Congress (see “Section 7 Requirements Necessitating Collection” below).

Therefore, this data collection instrument provides a way for all 56 grantees—50 U.S. states, DC, Puerto Rico, the U.S. Virgin Islands, Guam, American Samoa, and the Commonwealth of the Northern Mariana Islands to collect and report data on their performance in a consistent manner, including a uniform survey to be given to consumers. This uniform survey is included as part of the data collection package.

Annual Reports: In addition to submitting a State Plan every three years, states and outlying areas are required to submit annual progress reports on their activities. The data required in that progress report is specified in Section 4(f) of the AT Act. Section 7(d) of the AT Act requires that ACL submit to Congress an annual report on the activities conducted under the Act and an analysis of the progress of the states and outlying areas in meeting their measurable goals. This report must include a compilation and summary of the data collected under Section 4(f). In order to make this possible, states and outlying areas must provide their data uniformly. This data collection instrument was developed to ensure that all 56 states and outlying areas report data in a consistent manner in alignment with the requirements of Section 4(f). As stated above, ACL will use the information collected via this instrument to:

(1) Complete the annual report to Congress required by the AT Act;

(2) Comply with reporting requirements under the Government Performance and Results Modernization Act of 2010 (GPRAMA) (Pub. L. 111-352); and

(3) Assess the progress of states and outlying areas regarding measurable goals in their State Plans for AT.

Data collected from the grantees will provide a national description of activities funded under the AT Act to increase the access to and acquisition of AT devices and services through statewide AT programs for individuals with disabilities. Data collected from grantees will also provide information for usage by Congress, the Department, and the public. In addition, ACL will use this data to inform program management, monitoring, and technical assistance efforts. While States will be able to use the data for internal management and program improvement.

To review the proposed data collection tools please visit the ACL website at: https://www.acl.gov/about-acl/public-input.

Estimated Program Burden

ACL estimates the burden associated with this collection of information as follows:

(A) A web-based system that collects data from states.

(B) A performance measurement survey that states collect from individuals.

(C) A customer satisfaction survey that states collect from individuals.

(A) Fifty-six grantees report to ACL using the web-based data collection system. A workgroup of grantees estimated that the average amount of time required to complete all responses to the data collection instrument is 80 hours annually. The estimated response burden includes time to review the instructions, gather existing data, and complete and review the data entries. These estimates are based on the experience of staff who implement these programs at the state level. In addition, we project that clean-up and clarification of data elements will require no change in data burden estimates.

(B) The fifty-six grantees ask consumers to complete surveys that provide information on their performance related to the state's measurable goals. Historical data from states indicates that the average state will ask for this information from 3,242 consumers at 1 minute per consumer to complete the question survey, for a total of 54 hours annually.

(C) The fifty-six grantees also ask consumers to complete customer satisfaction surveys. Historical data from states indicated that the average state asks for this information from 3,242 consumers at 1 minute per consumer, for a total of 54 hours annually.

| Number of responses | Hours per response | Annual burden per grantee | Total annual burden hours
Work-Based System | 56 | 1.428 | 80 | 4,480
Performance Measurement | 3,242 | 0.01666 | 54 | 3.024
Customer Satisfaction | 3,242 | 0.01666 | 54 | 3,024
Subtotal |  |  | 188 | 10,528
Program Support | 56 | 4 | 208 | 11,648
Record Keeping Burden | 56 | 0.14286 | 8 | 448
Subtotal |  |  | 216 | 12,096
Total |  |  | 404 | 22,624

Dated: September 17, 2020.
Mary Lazare,
Principal Deputy Administrator.

[FR Doc. 2020-21294 Filed 9-25-20; 8:45 am]

BILLING CODE 4154-01-P